Title 3—

The President

Proclamation 9410 of March 30, 2016

César Chávez Day, 2016

By the President of the United States of America

A Proclamation

As a child of migrant workers who struggled just to get by, César Chávez knew the importance of having an economy that works for everyone and devoted his life to ensuring our Nation upheld the values upon which it was founded. On his birthday, we celebrate a man who reminded us—above all else—that we all share a common humanity, each of us having our own value and contributing to the same destiny, and we carry forward his legacy by echoing his peaceful and eloquent calls for a more just and equal society.

César Chávez demonstrated that true courage is revealed when the outlook is darkest, the resistance is strongest, and we still find it within ourselves to stand up for what we believe in. In the face of extraordinary adversity and opposition, he stood up for the inherent dignity of every person, no matter their race, color, creed, or sexual orientation, and for the idea that when workers are treated fairly, we give meaning to our founding ideals. Guided by his faith in his convictions, he fasted, marched, and rallied millions to “La Causa” to expand opportunity and demand a voice for workers everywhere. Together with Dolores Huerta, he founded the United Farm Workers, and through boycotts and protests, he ushered in a new era of respect for America's laborers and farm workers.

Today, we honor César Chávez by continuing to fight for what he believed in, including a living wage for workers and their right to unionize and provide for their family. Workers should have a safe workplace and the comfort of knowing that if they work hard, they can feed their family, earn decent benefits, and gain the skills they need to move up and get ahead. We will also keep up our efforts to reform our Nation's broken immigration system so more people can contribute to our country's success. And as we strive for well-deserved policies for America's workers, like a higher minimum wage and paid leave, we are reminded that the movement César Chávez led was sustained by a generation of organizers who spoke out and fought for a better, fairer America—and it is now upon us to do the same in our time.

Our Nation's progress has always been driven by the belief that extraordinary things happen when we come together around a common cause, and through decades of organizing and serving others, César Chávez embodied this ideal. On César Chávez Day, let us unite to reach for the America he knew was possible—one in which hard work is rewarded, prosperity is shared, and equal opportunity is the right of all our people.

NOW, THEREFORE, I, BARACK OBAMA, President of the United States of America, by virtue of the authority vested in me by the Constitution and the laws of the United States, do hereby proclaim March 31, 2016, as César Chávez Day. I call upon all Americans to observe this day with appropriate service, community, and education programs to honor César Chávez's enduring legacy.

IN WITNESS WHEREOF, I have hereunto set my hand this thirtieth day of March, in the year of our Lord two thousand sixteen, and of the Independence of the United States of America the two hundred and fortieth.

[FR Doc. 2016-07852

Filed 4-1-16; 11:15 am]

Billing code 3295-F6-P